DEPARTMENT OF AGRICULTURE

Grain Inspection, Packers and Stockyards Administration

Request for Extension and Revision of a Currently Approved Information Collection

AGENCY: Grain Inspection, Packers and Stockyards Administration, USDA.

ACTION: Notice and request for comments.

SUMMARY: In accordance with the Paperwork Reduction Act of 1995 (PRA), this notice announces the Grain Inspection, Packers and Stockyards Administration's (GIPSA) intention to request that the Office of Management and Budget (OMB) approve a 3-year extension of and revision to a currently approved information collection of a voluntary customer survey concerning the delivery of official inspection, grading, and weighing services authorized under the United States Grain Standards Act and the Agricultural Marketing Act of 1946. This voluntary survey gives customers that are primarily in the grain, oilseed, rice, lentil, dry pea, edible bean, and related agricultural commodity markets an opportunity to provide feedback on the quality of services they receive and provides GIPSA with information on new services that customers wish to receive. Customer feedback assists GIPSA's Federal Grain Inspection Service (FGIS) with enhancing the value of services and service delivery provided by the official inspection, grading, and weighing system.

DATES: Written comments must be submitted on or before March 19, 2012.

ADDRESSES: We invite you to submit comments on this notice. You may submit comments by any of the following methods:

• Internet: Go to http://www.regulations.gov and follow the online instructions for submitting comments.

• Mail, hand deliver, or courier: Tess Butler, GIPSA, USDA, 1400 Independence Avenue SW., Room 2530-S, Washington, DC 20250-3604.

• Fax: (202) 690-2173.

Instructions: All comments should be identified as “FGIS customer service survey” and should reference the date and page number of this issue of the Federal Register. Information collection package and other documents relating to this action will be available for public inspection in the above office during regular business hours. All comments will be available for public inspection in the above office during regular business hours (7 CFR 1.27(b)). Please call GIPSA's Management and Budget Services Staff at (202) 720-7486 to arrange to inspect documents.

FOR FURTHER INFORMATION CONTACT: Idelisse Rodriguez, Program Analyst, Office of the Deputy Administrator, email address: Idelisse.Rodriguez@usda.gov, telephone (202) 720-5688.

SUPPLEMENTARY INFORMATION: Congress enacted the United States Grain Standards Act (USGSA) (7 U.S.C. 71-87k) and the Agricultural Marketing Act (AMA) (7 U.S.C. 1621-1627) to facilitate the marketing of grain, oilseeds, pulses, rice, and related commodities. These statutes provide for the establishment of standards and terms which accurately and consistently measure the quality of grain and related products, provide for uniform official inspection and weighing, provide regulatory and service responsibilities, and furnish the framework for commodity quality improvement incentives to both domestic and foreign buyers. The GIPSA's Federal Grain Inspection Service (FGIS) establishes policies, guidelines, and regulations to carry out the objectives of the USGSA and the AMA. Regulations appear at 7 CFR 800, 801, and 802 for the USGSA and 7 CFR 868 for the AMA.

The USGSA, with few exceptions, requires official inspection of export grain sold by grade. Official services are provided, upon request, for grain in domestic commerce. The AMA authorizes similar inspection and weighing services, upon request, for rice, pulses, flour, corn meal, and certain other agricultural products. There are approximately 9,000 current users of the official inspection, grading, and weighing programs. These customers are located nationwide and represent a diverse mixture of small, medium, and large producers, merchandisers, processors, exporters, and other financially interested parties. These customers request official services from an FGIS Field Office; delegated, designated, or cooperating State office; or designated private agency office.

The goal of FGIS and the official inspection, grading, and weighing system is to provide timely, high quality, accurate, consistent, and professional service that facilitates the orderly marketing of grain and related commodities. To accomplish this goal and in accordance with Executive Order 12862, FGIS is seeking feedback from a representative sample of customers to evaluate the services provided by the official inspection, grading, and weighing programs.

Title: Survey of Customers of the Official Inspection, Grading, and Weighing Programs (Grain and Related Commodities).

OMB Number: 0580-0018.

Expiration Date of Approval: November 30, 2012.

Type of Request: Extension and revision of a currently approved information collection.

Abstract: The collection of information using a voluntary customer service survey will provide a representative sample of paying customers of FGIS and the official inspection, grading, and weighing services an opportunity to evaluate, on a scale of one to five, the timeliness, cost-effectiveness, accuracy, consistency, and usefulness of those services and results, and the professionalism of employees. Customers will also have an opportunity to provide additional comments or indicate what new or existing services they would use if such services were offered or available.

FGIS needs to maintain a formal means of determining customers' expectations or the quality of official services that are delivered. To collect this information, FGIS would continue to distribute, over a 3-year period, an annual voluntary customer service survey to customers requesting official inspection, grading, and weighing services. FGIS would survey a statistically random sample of approximately 1100 customers per year representing the customers' population as a whole. The survey instrument would continue to consist of nine questions only; subsequent survey instruments would be tailored to earlier responses. FGIS would make available to our customers an electronic version of the survey. The information collected from the survey would permit FGIS to gauge customers' satisfaction with existing services, compare results from year to year, and determine what new services customers' desire. The customer service survey consists of one document containing questions about timeliness, cost effectiveness, accuracy, consistency, usefulness of services and results, and the professionalism of employees. Some examples of survey questions include the following: “I receive results in a timely manner,” “Official results are accurate,” and “Inspection personnel are knowledgeable.” These survey questions would be assessed using a one to five rating scale with responses ranging from “strongly disagree” to “strongly agree” or “no opinion.” Customers would also be asked about the products for which they primarily request service, and what percentage of their product is officially inspected. Customers can also provide additional comments or request new or existing services on the survey. Space would be added on the revised survey for the customer to provide its email address should it wish to receive future surveys electronically.

By obtaining information from customers through a voluntary customer service survey, FGIS believes that it will continue to improve services and service delivery of its official inspection, grading, and weighing programs that meets or exceeds customer expectations.

Estimate of Burden: Public reporting burden for this collection of information is estimated to average 10 minutes (i.e., 0.167 hours) per response.

Respondents: The primary respondents will be a statistically random sample of direct paying customers of FGIS and the official inspection, grading, and weighing programs.

FY 2012: Estimated Number of Respondents: 605 (i.e., 1100 total customers times 55% response rate = 605).

Frequency of Responses: 1.

Estimated Annual Burden: 101 hours. (605 responses times 0.167 hours/response = 101 hours).

FY 2013: Estimated Number of Respondents: 616. (i.e., 1100 total customers times 56% response rate = 616).

Frequency of Responses: 1.

Estimated Annual Burden: 103 hours. (616 responses times 0.167 hours/response = 103 hours).

FY 2014: Estimated Number of Respondents: 627 (i.e., 1100 total customers times 57% response rate = 627).

Frequency of Responses: 1.

Estimated Annual Burden: 105 hours. (627 responses times 0.167 hours/response = 105 hours).

As required by the PRA (44 U.S.C. 3506(c)(2)(A)) and its implementing regulations (5 CFR 1320.8(d)(1)(i)), GIPSA specifically requests comments on: (1) Whether the proposed collection of information is necessary for the proper performance of the functions of the agency, including whether the information will have practical utility; (2) the accuracy of GIPSA's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

J. Dudley Butler,
Administrator, Grain Inspection, Packers and Stockyards Administration.

[FR Doc. 2012-707 Filed 1-13-12; 8:45 am]

BILLING CODE 3410-EN-P